ENVIRONMENTAL PROTECTION AGENCY

40 CFR Part 52

[EPA-R05-OAR-2013-0136, EPA-R05-OAR-2013-0215, EPA-R05-OAR-2013-0344, EPA-R05-OAR-2013-0378; FRL-9901-61-Region5]

Approval and Promulgation of Air Quality Implementation Plans; Ohio; Dayton-Springfield, Steubenville-Weirton, Toledo, and Parkersburg-Marietta; 1997 8-Hour Ozone Maintenance Plan Revision to Approved Motor Vehicle Emissions Budgets

AGENCY: Environmental Protection Agency (EPA).

ACTION: Direct final rule.

SUMMARY: Under the Clean Air Act (CAA), EPA is approving requests by Ohio to revise the 1997 8-hour ozone maintenance air quality state implementation plan (SIP) for the Dayton-Springfield area, the Toledo area, and the Ohio portions of the Parkersburg-Marietta and Steubenville-Weirton, West Virginia-Ohio areas, to replace onroad emissions inventories and motor vehicle emissions budgets (budgets) with inventories and budgets developed using EPA's Motor Vehicle Emissions Simulator (MOVES) emissions model. The Dayton-Springfield area consists of Clark, Greene, Miami, and Montgomery Counties. The Ohio portion of the Steubenville-Weirton, West Virginia-Ohio area consists of Jefferson County, Ohio. The Toledo area consists of Lucas and Wood Counties. The Ohio portion of the Parkersburg-Marietta, West Virginia-Ohio area consists of Washington County. Ohio submitted the SIP revision requests on the following dates: Dayton-Springfield on February 11, 2013; Steubenville-Weirton on March 15, 2013; Toledo on April 18, 2013; Parkersburg-Marietta on April 26, 2013.

DATES: This direct final rule will be effective December 23, 2013, unless EPA receives adverse comments by November 25, 2013. If adverse comments are received, EPA will publish a timely withdrawal of the direct final rule in the Federal Register informing the public that the rule will not take effect.

ADDRESSES: Submit your comments, identified by Docket ID Nos. EPA-R05-OAR-2013-0136 (Dayton-Springfield), EPA-R05-OAR-2013-0215 (Steubenville-Weirton), EPA-R05-OAR-2013-0344 (Toledo), EPA-R05-OAR-2013-0378 (Parkersburg-Marietta), by one of the following methods:

1. www.regulations.gov: Follow the on-line instructions for submitting comments.

2. Email: blakley.pamela@epa.gov

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID Nos. EPA-R05-OAR-2013-0136, EPA-R05-OAR-2013-0215, EPA-R05-OAR-2013-0344, EPA-R05-OAR-2013-0378. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is EPA approving?

II. What is the background for this action?

a. SIP Budgets and Transportation Conformity.

b. Prior Approval of Budgets.

c. The MOVES Emissions Model.

d. Submission of New Budgets Based on MOVES2010a.

III. What are the criteria for approval?

IV. What is EPA's analysis of the state's submittals?

a. The Revised Inventories.

b. Approvability of the MOVES2010a-based Budgets.

c. Applicability of MOBILE6.2-based Budgets.

V. What action is EPA taking?

VI. Statutory and Executive Order Reviews.

I. What is EPA approving?

EPA is approving new MOVES2010a-based onroad emissions inventories and budgets for the Dayton-Springfield and Toledo areas, and the Ohio portions of the Steubenville-Weirton and Parkersburg-Marietta, West Virginia-Ohio 1997 8-hour ozone maintenance areas, that will replace MOBILE-based inventories and budgets in the SIP. These areas were redesignated to attainment of the 1997 8-hour ozone standard effective June 15, 2007 (72 FR 26648, 44784, 27652, 27640), and MOBILE6.2-based onroad emissions inventories and budgets were approved in those actions. Upon effective date of approval of the MOVES-based budgets, they must then be used in future transportation conformity analyses for the area as required by section 176(c) of the CAA. See the official release of the MOVES2010 emissions model (75 FR 9411-9414) for background, and section II.(c) below for details.

II. What is the background for this action?

a. SIP Budgets and Transportation Conformity

Under the CAA, states are required to submit, at various times, control strategy SIP revisions and maintenance plans for nonattainment and maintenance areas for a given national ambient air quality standard (NAAQS). These SIP revisions and maintenance plans include budgets of onroad mobile source emissions for criteria pollutants and/or their precursors. Transportation plans and projects “conform” to (i.e., are consistent with) the SIP when they will not cause or contribute to air quality violations, or delay timely attainment of the NAAQS or an interim milestone.

b. Prior Approval of Budgets

EPA previously approved MOBILE6.2-based budgets for the Dayton-Springfield and Toledo areas, and the Ohio portions of the Parkersburg-Marietta and Steubenville-Weirton, West Virginia-Ohio 8-hour ozone maintenance areas, for volatile organic compounds (VOCs) and nitrogen oxides (NOX). The Dayton-Springfield area's ozone maintenance plan established 2005 and 2018 budgets. The Toledo area and the Ohio portions of the Parkersburg-Marietta and Steubenville-Weirton areas' ozone maintenance plans established 2009 and 2018 budgets. These budgets demonstrated a reduction in emissions from the monitored attainment year.

c. The MOVES Emissions Model

The MOVES model is EPA's state of the art tool for estimating highway emissions. EPA announced the release of MOVES2010 in March 2010 (75 FR 9411). Use of the MOVES model is required for regional emissions analyses for transportation conformity determinations outside of California that begin after March 2, 2013.

MOVES2010a was used to estimate emissions in the areas for the same milestone years as the original onroad emissions inventories and budgets in the SIP. The Ohio Environmental Protection Agency (OEPA) is revising the onroad emissions inventories and budgets using the latest planning assumptions, including population and employment updates. In addition, newer vehicle registration data has been used to update the age distribution of the vehicle fleet. Since future demonstrations of conformity will use emissions estimates derived with MOVES, it is appropriate to establish benchmarks based on MOVES. The interagency consultation group has had extensive consultation on the requirements and need for new budgets.

d. Submission of New Budgets Based on MOVES2010a

Ohio submitted final budgets based on MOVES2010a that cover the Dayton-Springfield (submitted February 11, 2013) and Toledo (submitted April 18, 2013) areas and the Ohio portions of the Parkersburg-Marietta (submitted April 26, 2013) and Steubenville-Weirton (submitted March 15, 2013), West Virginia-Ohio areas. Ohio did not receive any comments for the Toledo, Dayton-Springfield, or Parkersburg-Marietta submittals. Ohio received comments requesting clarification on the Steubenville-Weirton submittal from the West Virginia Division of Air Quality and provided responses to the clarifications requested.

For the Dayton-Springfield area, the new MOVES2010a-based budgets are for the years 2005 and 2018 for both VOCs and NOX. For the Toledo area and the Ohio portions of the Parkersburg-Marietta and Steubenville-Weirton areas, the new MOVES2010a-based budgets are for the years 2009 and 2018 for both VOCs and NOX. The budgets for these areas are detailed later in this notice. Ohio also provided the areas' total emissions, including onroad mobile emissions inventories based on MOVES2010a, for the attainment year, the interim budget year, and the maintenance year. The combined emissions reduction from all sectors between the attainment year and the maintenance year is shown as well. Total emissions include point, area, nonroad mobile and onroad mobile sources. The total emissions and combined emissions reduction from all sectors from 2005 to 2018 for VOC and NOX for the area is shown in tables 1 and 2. In tables 1 through 8, for onroad emissions of both VOC and NOX for the years noted with an asterisk, a 15% safety margin¹ has been applied to reach the values shown.

¹ The safety margin is achieved by adding a certain percentage of emissions, in tons per day, onto the MOVES-based onroad emissions budgets. In this case, Ohio chose to add a 15% safety margin to their budgets. The safety margin cannot exceed the combined emissions reduction for the area.

Table 1—Total VOC Emissions With MOVES2010a Mobile Emissions in Dayton-Springfield-Springfield, Ohio (Clark, Greene, Miami, and Montgomery Counties)
[tons per day]
Sector | 2005 Attainment | 2009 Interim | 2018* Maintenance | Combined emissions reduction (2005-2018)
Point | 3.45 | 3.47 | 3.72
Area | 46.23 | 47.76 | 52.75
Onroad | 55.37 | 43.02 | 19.44
Nonroad | 12.16 | 9.62 | 7.91
Total | 115.21 | 103.87 | 83.82 | 31.39

Table 2—Total NOX Emissions With MOVES2010a Mobile Emissions in Dayton-Springfield-Springfield, Ohio (Clark, Greene, Miami, and Montgomery Counties)
[tons per day]
Sector | 2005 Attainment | 2009 Interim | 2018* Maintenance | Combined emissions reduction (2005-2018)
Point | 36.64 | 36.24 | 37.93
Area | 4.65 | 5.09 | 5.45
Onroad | 20.24 | 16.68 | 9.84
Nonroad | 84.66 | 69 | 28.23
Total | 146.19 | 127.01 | 81.45 | 64.74

Table 3—Total VOC Emissions With MOVES2010a Mobile Emissions in Toledo, Ohio (Lucas and Wood Counties)
[tons per day]
Sector | 2004 Attainment | 2009* Interim | 2018* Maintenance | Combined emissions reduction (2004-2018)
Point | 7.87 | 7.21 | 7.99
Area | 30.55 | 30.40 | 32.60
Onroad | 26.86 | 18.79 | 8.14
Nonroad | 10.31 | 7.78 | 0.57
Total | 75.59 | 64.18 | 49.30 | 26.29

Table 4—Total NOX Emissions With MOVES2010a Mobile Emissions in Toledo, Ohio (Lucas and Wood Counties)
[tons per day]
Sector | 2004 Attainment | 2009* Interim | 2018* Maintenance | Combined emissions reduction (2004-2018)
Point | 35.54 | 27.22 | 12.90
Area | 1.70 | 1.91 | 1.97
Onroad | 55.12 | 40.68 | 15.34
Nonroad | 24.82 | 19.76 | 9.65
Total | 117.18 | 89.57 | 39.86 | 77.32

Table 5—Total VOC Emissions With MOVES2010a Mobile Emissions in the Ohio Portion of Parkersburg-Marietta, West Virginia-Ohio (Washington County, Ohio)
[tons per day]
Sector | 2004 Attainment | 2009* Interim | 2018* Maintenance | Combined emissions reduction (2004-2018)
Point | 2.06 | 2.28 | 2.70
Area | 2.92 | 2.81 | 2.90
Onroad | 4.88 | 4.15 | 1.93
Nonroad | 1.17 | 0.96 | 0.77
Total | 11.03 | 10.20 | 8.30 | 2.73

Table 6—Total NOX Emissions With MOVES2010a Mobile Emissions in the Ohio Portion of Parkersburg-Marietta, West Virginia-Ohio (Washington County, Ohio)
[tons per day]
Sector | 2004 Attainment | 2009* Interim | 2018* Maintenance | Combined emissions reduction (2004-2018)
Point | 71.87 | 15.07 | 21.96
Area | 0.22 | 0.24 | 0.25
Onroad | 8.30 | 7.33 | 3.25
Nonroad | 5.00 | 4.17 | 3.59
Total | 85.39 | 26.81 | 29.05 | 56.34

Table 7—Total VOC Emissions With MOVES2010a Mobile Emissions in the Ohio Portion of Steubenville-Weirton, West Virginia-Ohio (Jefferson County, Ohio)
[tons per day]
Sector | 2004 Attainment | 2009* Interim | 2018* Maintenance | Combined emissions reduction (2004-2018)
Point | 1.15 | 1.25 | 1.26
Area | 3.06 | 2.91 | 2.91
Onroad | 5.62 | 4.83 | 2.14
Nonroad | 0.93 | 0.87 | 0.60
Total | 10.76 | 9.86 | 6.91 | 3.85

Table 8—Total NOX Emissions With MOVES2010a Mobile Emissions in the Ohio Portion of Steubenville-Weirton, West Virginia-Ohio (Jefferson County, Ohio)
[tons per day]
Sector | 2004 Attainment | 2009* Interim | 2018* Maintenance | Combined emissions reduction (2004-2018)
Point | 154.73 | 66.40 | 46.38
Area | 0.18 | 0.21 | 0.21
Onroad | 6.69 | 5.91 | 2.43
Nonroad | 2.25 | 1.93 | 1.58
Total | 163.85 | 74.45 | 50.60 | 133.25

The metropolitan planning organizations for these areas added only a portion of the overall safety margin available for NOX and VOCs to the budgets for the years indicated with an asterisk in tables 1 through 8. As shown in tables 1 through 8, the submittals demonstrate how the areas' emissions decline from the attainment year to maintain the 1997 8-hour ozone standard.

No additional control measures were needed to maintain the 1997 8-hour ozone standard in the Dayton-Springfield and Toledo areas, and the Ohio portions of the Parkersburg-Marietta and Steubenville-Weirton, West Virginia-Ohio areas. An appropriate safety margin for NOX and VOCs was selected by the interagency consultation groups for each area, which consist of representatives from the Federal Highway Administration, OEPA, Ohio Department of Transportation, and EPA. The submitted budgets for these areas are addressed later in this notice.

III. What are the criteria for approval?

EPA requires that revisions to existing SIPs and budgets continue to meet applicable requirements (e.g., reasonable further progress, attainment, or maintenance). The SIP must also meet any applicable SIP requirements under CAA section 110. In addition, adequacy criteria found at 40 CFR 93.118(e)(4) must be satisfied before EPA can find submitted budgets adequate and approve them for conformity purposes.

Areas can revise their budgets and inventories using MOVES without revising their entire SIP if (1) the SIP continues to meet applicable requirements when the previous motor vehicle emissions inventories are replaced with MOVES base year and milestone, attainment, or maintenance year inventories, and (2) the state can document that growth and control strategy assumptions for non-motor vehicle sources continue to be valid and any minor updates do not change the overall conclusions of the SIP. The submittals meet this requirement as described below in the next section.

For more information, see EPA's latest “Policy Guidance on the Use of MOVES2010 for SIP Development, Transportation Conformity, and Other Purposes” (April 2012), available online at: www.epa.gov/otaq/stateresources/transconf/policy.htm#models.

IV. What is EPA's analysis of the state's submittals?

a. The Revised Inventories

The SIP revision requests for these areas' 1997 ozone maintenance plans seek to revise only the onroad mobile source inventories. OEPA has certified that the control strategies for each area remain the same as in the original SIP, and that no other control strategies are necessary. OEPA finds that growth and control strategy assumptions for non-mobile sources (i.e., area, nonroad, and point) have not changed significantly from the original submittals. This is confirmed by the monitoring data for the areas, which continue to monitor attainment for the 1997 8-hour ozone standard.

OEPA's submittals confirm that the total emissions in the revised SIP (which includes MOVES2010a emissions from mobile sources) as shown in tables 1 through 8 demonstrate that emissions in the areas continue to decline and remain below the attainment levels.

Ohio has submitted MOVES2010a-based budgets for the Dayton-Springfield and Toledo areas, and the Ohio portions of the Parkersburg-Marietta and Steubenville-Weirton, West Virginia-Ohio areas that are clearly identified in the submittals. The budgets are displayed in tables 9 through 12.

Table 9—MOVES-Based Budgets for the Dayton-Springfield 1997 Ozone Area (Clark, Greene, Miami, and Montgomery Counties, Ohio)
[tons per day]
Year | 2005 | 2018
VOC | 53.37 | 22.35
NOX | 84.66 | 32.47

Table 10—Motor MOVES-Based Budgets for the Toledo 1997 Ozone Area (Lucas and Wood Counties)
[tons per day]
Year | 2009 | 2018
VOC | 21.61 | 9.36
NOX | 46.78 | 17.64

Table 11—Motor MOVES-Based Budgets for the Ohio Portion of the Parkersburg-Marietta 1997 Ozone Area (Washington County, Ohio)
[tons per day]
Year | 2009 | 2018
VOC | 4.15 | 1.93
NOX | 7.33 | 3.25

Table 12—MOVES-Based Budgets for the Ohio Portion of the Steubenville-Weirton 1997 Ozone Area (Jefferson County, Ohio)
[tons per day]
Year | 2009 | 2018
VOC | 4.83 | 2.14
NOX | 5.91 | 2.43

b. Approvability of the MOVES2010a-based Budgets

EPA is approving the MOVES2010a-based budgets submitted by Ohio for use in determining transportation conformity in the Dayton-Springfield and Toledo areas, and the Ohio portions of the Parkersburg-Marietta and Steubenville-Weirton, West Virginia-Ohio 1997 ozone maintenance areas. EPA evaluated the MOVES-based budgets submitted using the adequacy criteria found in 40 CFR 93.118(e)(4) and our in-depth evaluation of the state's submittals and SIP requirements.

Before submitting the revised budgets, OEPA followed all necessary conformity procedures. The budgets are clearly identified and precisely quantified in the submittals. The budgets, when considered with other emissions sources, are consistent with continued maintenance of the 1997 ozone standard. The budgets are clearly related to the emissions inventories and control measures in the SIP. The changes from the previous budgets are clearly explained with the change in the model from MOBILE6.2 to MOVES2010a and the revised and updated planning assumptions. The inputs to the model are detailed in the Appendices to the submittals. EPA has reviewed the inputs to the MOVES2010a modeling and participated in the consultation process. The Federal Highway Administration and the Ohio Department of Transportation have taken a lead role in working with the areas' metropolitan planning organizations to provide accurate, timely information and inputs to the MOVES2010a model runs. The state has documented that growth and control strategy assumptions for non-motor vehicle sources (i.e. area, nonroad, and point) continue to be valid and any minor updates do not change the overall conclusions of the SIP.

Ohio's submissions confirm that the SIP continues to demonstrate maintenance of the 1997 ozone standard because the total emissions in the revised SIP (including MOVES2010a emissions for onroad mobile sources) continue to decrease from the attainment year to the final year of the maintenance plans for these areas, as shown in tables 1 through 8. As tables 1 through 12 show, the submitted budgets include an appropriate margin of safety while still maintaining total emissions below the attainment level.

Based on our review of the SIP and the new budgets provided, EPA has determined that the SIP will continue to meet the requirements if the revised motor vehicle emissions inventories are replaced with MOVES2010a inventories.

c. Applicability of MOBILE6.2-based Budgets

Upon the effective date of the approval of the revised budgets, the state's existing MOBILE6.2-based budgets for these areas will no longer be applicable for transportation conformity purposes.

V. What action is EPA taking?

EPA is approving the submitted onroad mobile source emissions inventories and the submitted budgets for the Dayton-Springfield (submitted February 11, 2013) and Toledo (submitted April 18, 2013), and the Ohio portions of the Parkersburg-Marietta (submitted April 26, 2013) and Steubenville-Weirton (submitted March 15, 2013), West Virginia-Ohio 1997 ozone maintenance plans. We are publishing this action without prior proposal because we view this as a noncontroversial amendment and anticipate no adverse comments. However, in the proposed rules section of this Federal Register publication, we are publishing a separate document that will serve as the proposal to approve the state plan if relevant adverse written comments are filed. This rule will be effective December 23, 2013 without further notice unless we receive relevant adverse written comments by November 25, 2013. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 23, 2013.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 23, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Ozone, Volatile organic compounds.

Dated: September 19, 2013.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. Section 52.1885 is amended by adding paragraphs (ff)(17), (18), (19), and (20) to read as follows:

§ 52.1885 Control strategy: Ozone.

* * * * *

(ff) * * *

(17) Approval—On February 11, 2013, Ohio submitted a request to revise the approved MOBILE6.2 onroad mobile source emissions inventories and motor vehicle emission budgets (budgets) in the 1997 8-hour ozone maintenance plan for the Dayton-Springfield, Ohio area. The inventories and budgets are being revised with inventories and budgets developed with the MOVES2010a model. The 2005 budgets for the Dayton-Springfield, Ohio area are 53.37 tons per day (tpd) VOC and 84.66 tpd NOX. The 2018 budgets for the Dayton-Springfield, Ohio area are 22.35 tpd VOC and 32.47 tpd NOX.

(18) Approval—On March 15, 2013, Ohio submitted a request to revise the approved MOBILE6.2 onroad mobile source emissions inventories and motor vehicle emission budgets (budgets) in the 1997 8-hour ozone maintenance plan for the Ohio portion of the Steubenville-Weirton, West Virginia-Ohio area. The inventories and budgets are being revised with inventories and budgets developed with the MOVES2010a model. The 2009 budgets for the Ohio portion of the Steubenville-Weirton, West Virginia-Ohio area are 4.83 tons per day (tpd) VOC and 5.91 tpd NOX. The 2018 budgets for the Ohio portion of the Steubenville-Weirton, West Virginia-Ohio area are 2.14 tpd VOC and 2.43 tpd NOX.

(19) Approval—On April 18, 2013, Ohio submitted a request to revise the approved MOBILE6.2 onroad inventories and motor vehicle emission budgets (budgets) in the 1997 8-hour ozone maintenance plan for the Toledo, Ohio area. The inventories and budgets are being revised with budgets developed with the MOVES2010a model. The 2009 budgets for the Toledo, Ohio area are 21.61 tons per day (tpd) VOC and 46.78 tpd NOX. The 2018 budgets for the Toledo, Ohio area are 9.36 tpd VOC and 17.64 tpd NOX.

(20) Approval—On April 26, 2013, Ohio submitted a request to revise the approved MOBILE6.2 onroad mobile source emissions inventories and motor vehicle emission budgets (budgets) in the 1997 8-hour ozone maintenance plan for the Ohio portion of the Parkersburg-Marietta, West Virginia-Ohio area. The inventories and budgets are being revised with inventories and budgets developed with the MOVES2010a model. The 2009 budgets for the Ohio portion of the Parkersburg-Marietta, West Virginia-Ohio area are 4.15 tons per day (tpd) VOC and 7.33 tpd NOX. The 2018 budgets for the Ohio portion of the Parkersburg-Marietta, West Virginia-Ohio area are 1.93 tpd VOC and 3.25 tpd NOX.

* * * * *

[FR Doc. 2013-24706 Filed 10-23-13; 8:45 am]

BILLING CODE 6560-50-P